DEPARTMENT OF TRANSPORTATION

Federal Aviation Administration

14 CFR Part 39

[Docket No. 2002-NM-131-AD; Amendment 39-12825; AD 2002-14-25]

RIN 2120-AA64

Airworthiness Directives; Empresa Brasileira de Aeronautica S.A. (EMBRAER) Model EMB-135 and -145 Series Airplanes

AGENCY: Federal Aviation Administration, DOT.

ACTION: Final rule request for comments.

SUMMARY: This amendment supersedes an existing airworthiness directives (AD), applicable to certain EMBRAER Model EMB-135 and -145 series airplanes, that currently requires repetitive inspections (tests) of the actuator clutches of the primary and backup pitch trim systems of the horizontal stabilizer for proper pitch trim indications, and replacement of the actuator, if necessary. This amendment expands the applicability in the existing AD. This amendment is prompted by issuance of mandatory continuing airworthiness information by a civil airworthiness authority. The actions specified in this AD are intended to prevent loss of pitch trim command during the takeoff and climb phase of flight due to improper set point of the actuator clutches, which would result in high pitch control forces and consequent reduced controllability of the airplane. This action is needed to address the identified unsafe condition.

DATES: Effective August 8, 2002.

The incorporation by reference of certain publications listed in the regulations is approved by the Director of the Federal Register as of August 8, 2002.

The incorporation by reference of certain other publications, as listed in the regulations, was approved previously by the Director of the Federal Register as of May 16, 2002 (67 FR 21567), May 1, 2002).

Comments for inclusion in the Rules Docket must be received on or before September 23, 2002.

ADDRESSES: Submit comments in triplicate to the Federal Aviation Administration (FAA), Transport Airplane Directorate, ANM-114, Attention: Rules Docket No. 2002-NM-131-AD, 1601 Lind Avenue, SW., Renton, Washington 98055-4056. Comments may abe inspected at this location between 9 a.m and 3 p.m., Monday through Friday, except Federal holidays. Comments may be submitted via fax to (425) 227-1232. Comments may also be sent via the Internet using the following address: 9/anm-iarcomment@faa.gov. Comments sent via fax or the Internet must contain “Docket No. 202-NM-131-AD” in the subject line and need not be submitted in triplicate. Comments sent via the internet as attached electronic files must be formatted in Microsoft Word 97 for Windows or ASCII text.

The service information referenced in this AD may be obtained from Empresa Braileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia, or at the Office of the Federal Register, 800 North Capitol Street, NW., suite 700, Washington, DC.

FOR FURTHER INFORMATION CONTACT: Robert Capezzuto, Aerospace Engineer, Systems and Flight Test Branch, ACE-116A, FAA, Atlanta Aircraft Certification Office, One Crown Center, 1895 Phoenix Boulevard, suite 450, Atlanta, Georgia 30349; telephone (770) 703-6071; fax (770) 703-6097.

SUPPLEMENTARY INFORMATION: On April 19, 2002, the FAA issued AD 2002-08-18, amendment 39-12730 (65 FR 21567, May 1, 2002), applicable to certain EMBRAER Model EMB-135 and -145 series airplanes, to require repetitive inspections (tests) of the actuator clutches of the primary and backup pitch trim systems of the horizontal stabilizer for proper pitch trim indications, and replacement of the actuator, if necessary. The actions required by that AD are intended to prevent loss of pitch trim command during the takeoff and climb phase of flight due to improper set point of the actuator clutches, which could result in high pitch control forces and consequent reduced controllability of the airplane.

Actions Since Issuance of Previous Rule

Since the issuance of that AD, the Departmento de Aviacao Civil (DAC), which is the airworthiness authority for Brazil, has revised the Brazilian airworthiness directive referenced in the existing AD to expand the applicability to include all airplanes equipped with certain actuators of the horizontal stabilizer. The DAC issued Brazilian airworthiness directive 2001-10-02R2, dated May 6, 2002, in order to assure the continued airworthiness of these airplanes in Brazil.

In addition, the manufacturer has issued EMBRAER Service Bulletin 145-27-0082, Change No. 01, dated December 13, 2001. Change No. 01 clarifies certain accomplishment instruments and adds certain airplanes to the effectivity of the original version of the service bulletin. AD 2002-08-18 cites the original version of EMBRAER Service Bulletin 145-27-0082, dated September 18, 2001, as the appropriate source of service information for accomplishment of the requirements.

Explanation of Requirements of Rule

Since an unsafe condition has been identified that is likely to exist or develop on other airplanes of the same type design registered in the United States, this AD supersedes AD 2002-08-18 to continue to require repetitive inspections (tests) of the actuator clutches of the primary and backup pitch trim systems of the horizontal stabilizer for proper pitch trim indications, and replacement of the actuator, if necessary. This AD expands the applicability in the existing AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organized comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-131-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 100(g), 40113, 44701.

§ 39.13 [Amended]

2. Section 39.13 is amended by removing amendment 39-12730 (67 FR 21567, May 1, 2002), and by adding a new airworthiness directive (AD), amendment 39-12825, to read as follows:

2002-14-25 Empresa Brasileira De Aeronautica S.A. (Embraer): amendment 39-128.25 Docket 2002-NM-131-AD. Supersedes AD 2002-08-18, Amendment 39-12730.

Applicability: Model EMB-135 and -145 series airplanes; certificated in any category; equipped with horizontal stabilizer actuators as listed in Embraer Service Bulletin 145-27-0082, Change No. 01, dated December 13, 2001.

Note 1: This AD applies to each airplane identified in the preceding applicability provision, regardless of whether it has been modified altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent loss of pitch trim command during the takeoff and climb phase of flight due to improper set point of the actuator clutches of the horizontal stabilizer, which could result in high pitch control forces and consequent reduced controllability of the airplane, accomplish the following:

Requirements of AD 2002-08-18, Amendment 39-12739

Repetitive Inspectors (Tests)/Replacement

(a) For airplanes subject to the requirements of AD 2002-08-18, within 800 flight hours after May 16, 2002 (the effective date of AD 2002-08-18): Do an inspection (test) of the actuator clutches of both the primary and backup pitch trim systems of the horizontal stabilizer for proper pitch trim indications per EMBRAER Service Bulletin 145-27-0082, dated September 18, 2001, or Change No. 01, dated December 13, 2001. Repeat the test after that every 2,000 flight hours.

(1) If either test indicates that the clutch is slipping (no PIT TRIM 1 INOP or PIT TRIM 2 INOP message appears, and the measured voltage during trim attempts is greater than 1 volt), before further flight, replace the applicable actuator with an improved actuator and before further flight, repeat the test.

(2) If both tests indicate that the clutch is acceptable (PIT TRIM 1 INOP or PIT TRIM 2 INOP message appears), repeat the test at the time specified in paragraph (a) of this AD.

New Requirements of This AD

(b) For airplanes other than those identified in paragraph (a) of this AD, within 800 flight hours after the effective date of this AD: Do an inspection (test) of the actuator clutches of both the primary and backup pitch trim systems of the horizontal stabilizer for proper pitch trim indications per EMBRAER Service Bulletin 145-27-0082, dated September 18, 2001, or Change No. 01, dated December 13, 2001. Repeat the test their that every 2,000 flight hours.

(1) If either test indicates that the clutch is slipping (no PIT TRIM 1 INOP or PIT TRIM 2 INOP message appears, and the measured voltage during trim attempts is greater than 1 volt), before further flight, replace the applicable actuator with an improved actuator per the service bulletin, and before further flight, repeat the test.

(2) If both tests indicate that the clutch is acceptable (PIT TRIM 1 INOP or PIT TRIM 2 INOP message appears), repeat the test at the time specified in paragraph (a) of this AD.

Spares

(c) As of the effective date of this AD, no person shall install an actuator having part number 362200-1007, -1009, -1011, or -1013 on any airplane, unless the actuator clutch is inspected as required by paragraph (a) of this AD.

Alternative Methods of Compliance

(d)(1) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

(2) Alternative methods of compliance, approved previously per AD 2002-08-18, amendment 39-12730, are approved as alternative methods of compliance with this AD.

Note 2: Information concerning the existing of approved alternative methods of compliance with this AD, if any, may be obtained from the Atlanta ACO.

Special Flight Permits

(e) Special flight permits may be issued in accordance with §§ 21.197 and 21.199 of the Federal Aviation Regulations (14 CFR 21.197 and 21.199) to operate the airplane to a location where the requirements of this AD can be accomplished.

Incorporation by Reference

(f) Except as provided by paragraph (a)(1) of this AD, the actions shall be done in accordance with EMBRAER Service Bulletin 145-27-0082, dated September 18, 2001; or EMBRAER Service Bulletin 145-27-0082, Change No. 01, dated December 13, 2001.

(1) The incorporation by reference of EMBRAER Service Bulletin 145-27-0082, Change No. 01, dated December 13, 2001, is approved by the Director of the Federal Register in accordance with 5 U.S.C. 552(a) and 1 CFR part 51.

(2) The incorporation by reference of EMBRAER Service Bulletin 145-27-0082, dated September 18, 2001, was approved previously by the Director of the Federal Register as of May 16, 2002 (67 FR 21567, May 1, 2002.)

(3) Copies may be obtained from Empresa Brasileira de Aeronautics S.A. (EMBRAER), P.O. Box 343-CEP 12.225, San Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 3: The subject of this AD is addressed in Brazilian airworthiness directive 2001-10-02R2, dated May 6, 2002.

Effective Date

(g) This amendment becomes effective on August 8, 2002.

Issued in Renton, Washington, on July 11, 2002.
Michael J. Kaszycki,
Acting Manager, Transport Airplane Directorate, Aircraft Certification Service.

[FR Doc. 02-18028 Filed 7-23-02; 8:45 am]

BILLING CODE 4910-13-M